DEPARTMENT OF JUSTICE

Notice of Lodging of Consent Decree Under the Lead-Based Paint Hazard Act

Notice is hereby given that on August 3, 2006, a proposed Consent Decree in United States v. Steven J. Meldahl dba SJM Properties, Civil Action 06-3202 JNE/JJG, was lodged with the United States District Court for the District of Minnesota.

The Consent Decree settles claims against the owner and management company of approximately 31 residential properties containing approximately 34 units located in Minnesota, (“Subject Properties”). The claims were brought on behalf of the Department of Housing and Urban Development, (“HUD”), and the Environmental Protection Agency (“EPA”) under the Residential Lead-Based Paint Hazard Reduction Act 42 U.S.C. 4851 et seq. (“Lead Hazard Reduction Act”). The United States alleged in the complaint that the Defendant failed to make one or more of the disclosures or to complete one or more of the disclosure activities required by the Lead Hazard Reduction Act.

Under the Consent Decree, Defendant will certify that he is complying with residential lead paint notification requirements. In addition, Defendant shall pay a civil penalty to the United States of $5,000 within 30 days of entry of the Consent Decree and an additional $5,000 civil penalty within seven months after entry of the Consent Decree. Defendant has agreed to develop a Hazard Reduction Plan for the Subject Properties and will replace all painted windows and abate all lead-based paint hazards within 2 years after approval of the Hazard Reduction Plan. Hazard abatement for at least one-half of the total inventory of Subject Properties is to be completed within each year. If the Defendant learns that a child with elevated blood lead levels lives or frequently visits a subject unit, the hazard abatement work on that unit is to be accomplished within 5 months. The Defendant is also required to submit annual reports on the progress of the hazard abatement work. In addition, on-going operations and maintenance shall be implemented at the completion of any window replacement or hazard reduction work. The Consent Decree provides for stipulated penalties for failure to meet obligations under the Consent Decree. Under the Consent Decree the United States provides the Defendant with a covenant not to sue or to take administartive action arising out of violations of Section 1018 at the Subject Properties.

The Department of Justice will receive for a period of thirty (30) days from the date of this publication comments relating to the consent decree. Comments should be addressed to the Assistant Attorney General of the Environment and Natural Resources Division, Department of Justice, P.O. Box 7611, Washington, DC 20044-7611, and should refer to United States v. Steven J. Meldahl dba SJM Properties, D.J. #90-5-2-1-08891.

The proposed consent decree may be examined at the Department of Housing and Urban Development, Office of General Counsel, 451 7th St. NW., Room 9262, Washington, DC 20410; at the office of the United States Attorney for the District of Minnesota, Assistant U.S. Attorney, 600 U.S. Courthouse, 300 South Fourth Street, Minneapolis, Minnesota, 55415; and at U.S. EPA Region 5, 77 W. Jackson Blvd., Chicago, IL 60604. During the public comment period, the consent decree may also be examined on the following Department of Justice Web site, http://www.usdoj.gov/enrd/Consent_Decrees.html. Copies of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy please refer to the referenced case and enclose a check in the amount of $7.75 (25 cents per page reproduction costs), payable to the U.S. Treasury for the consent decree in United States v. Steven J. Meldahl dba SJM Properties, D.J. # 90-5-2-1-08891.

W. Benjamin Fisherow,
Deputy Chief, Environmental Enforcement Section, Environment and Natural Resources Division.

[FR Doc. 06-7100 Filed 8-22-06; 8:45am]

BILLING CODE 4410-01-M